AGENCY FOR INTERNATIONAL DEVELOPMENT

48 CFR Chapter 7

RIN 0412-AA87

USAID Acquisition Regulation (AIDAR): Security and Information Technology Requirements

Correction

In rule document 2024-05748, appearing on pages 19754-19760 in the issue of Wednesday, March 20, 2024, make the following corrections:

§ 739.106 Contract clauses [Corrected].

On page 19758, in the second column, on the fifty-fourth line, the term “Project websites” should read “Project Websites”.

§ 752.239-70 Information Technology Authorization [Corrected].

On page 19759, in the first column, on the fifty-ninth line, the paragraph designation “(d)” should read “(a)”.

§ 752.239-72 USAID-Financed Project Websites [Corrected].

On page 19760, in the first column, on the fourteenth line, the term “Project website” should read “Project Website”.

On the same page, in the second column, on the fourth line, the term “Project website” should read “Project Website”.

On the same page, in the same column, on the twentieth line, the term “Project website” should read “Project Website”.

[FR Doc. C1-2024-05748 Filed 4-17-24; 8:45 am]

BILLING CODE 0099-10-D